DEPARTMENT OF JUSTICE

Notice of Lodging of Consent Decree Under the Clean Air Act

Notice is hereby given that on April 20,2009, a proposed Consent Decree in United States of America et al. v. E.I. du Pont de Nemours & Co., and Lucite International, Inc., Civil Action No. 2:09-0385 was lodged with the United States District Court for the Southern District of West Virginia.

In this action the United States, on behalf of the Administrator of the United States Environmental Protection Agency, sought injunctive relief and civil penalties under Section 113(b) of the Clean Air Act (“Act”), 42 U.S.C. 7413(b), for alleged violations at a sulfuric acid regeneration plant (“Plant”) owned by Lucite and operated by DuPont in Belle, West Virginia. The Complaint alleged violations of: (1) The Prevention of Significant Deterioration provisions of the Act, 42 U.S.C. 7470-92; (2) the New Source Performance Standards of the Act, 42 U.S.C. 7411; (3) the Title V Permit requirements of the Act, 42 U.S.C. 7661-7661f; and (4) the federally approved and enforceable state implementation plan which incorporates and/or implements the above-listed federal regulations.

The Consent Decree resolves the United States's Clean Air Act claims at the Plant by requiring that Defendants: (i) Pay a civil penalty of $2,000,000, to be split evenly with the State of West Virginia; and (ii) cease operations at the Plant by April 1, 2010, and surrender all air permits to the State. This settlement reflects the fact that Defendants have decided, for independent business reasons, to shut the Plant.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States of America et al. v. E.I. du Pont de Nemours & Co., and Lucite International, Inc., Civil Action No. 2:09-0385 (S.D. WV), D.J. Ref. 90-5-2-1-09251.

The Decree may be examined at U.S. EPA Region 3, 1650 Arch Street, Philadelphia, PA 19103. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-9399 Filed 4-23-09; 8:45 am]

BILLING CODE 4410-15-P